DEPARTMENT OF COMMERCE

National Oceanic and Atmospheric Administration

[RTID 0648-XD722]

Deepwater Horizon Natural Resource Damage Assessment Alabama Trustee Implementation Group Draft Supplemental Restoration Plan II and Environmental Assessment: Marine Mammals

AGENCY: National Marine Fisheries Service (NMFS), National Oceanic and Atmospheric Administration (NOAA), Commerce.

ACTION: Notice of availability; request for public comments.

SUMMARY: The Deepwater Horizon (DWH) natural resource Trustees for the Alabama Trustee Implementation Group (Alabama TIG) have prepared the Draft Supplemental Restoration Plan II and Environmental Assessment: Marine Mammals (Supplemental RPII/EA). The Draft Supplemental RPII/EA proposes to use additional funds from the Marine Mammals Restoration Type to extend the implementation of one or more projects currently underway in the Alabama Restoration Area to continue the Alabama TIG's efforts to restore for injuries to marine mammals impacted by the DWH oil spill. The Draft Supplemental RPII/EA evaluates two restoration alternatives under the Oil Pollution Act (OPA) and the National Environmental Policy Act (NEPA). This evaluation includes consideration of the criteria set forth in the OPA natural resource damage assessment (NRDA) regulations, and an analysis under NEPA's implementing regulations. A No Action Alternative is also evaluated pursuant to the NEPA. The total estimated cost to implement the Alabama TIG's Preferred Alternative—an extension of the Enhancing Capacity for the Alabama Marine Mammal Stranding Network Project—is $1,881,237. If selected for implementation, this action would allocate the Alabama TIG's remaining Marine Mammals restoration funds. The Alabama TIG invites the public to comment on the Draft Supplemental RPII/EA.

DATES: The Alabama TIG will consider public comments on the Draft Supplemental RPII/EA received on or before April 18, 2024.

ADDRESSES: You may view and download the Draft Supplemental RPII/EA at https://www.gulfspillrestoration.noaa.gov/restoration-areas/alabama. You may also request a flash drive containing the Supplemental RPII/EA (see FOR FURTHER INFORMATION CONTACT).

Submitting Comments: You may submit comments on the Draft Supplemental RPII/EA by either of the following methods:

• Website: https://parkplanning.nps.gov/ALTIGMM. Follow the online instructions for submitting comments.

• Mail: Alabama Department of Conservation and Natural Resources, 31115 Five Rivers Boulevard, Spanish Fort, AL 36527, ATTN: Jaime Miller. To be considered, mailed comments must be postmarked on or before the comment deadline given in DATES.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: National Oceanic and Atmospheric Administration—Stella Wilson, NOAA Restoration Center, (850) 332-4169, gulfspill.restoration@noaa.gov.

SUPPLEMENTARY INFORMATION:

Introduction

On April 20, 2010, the mobile offshore drilling unit Deepwater Horizon, which was drilling a well for BP Exploration and Production, Inc. (BP), experienced a significant explosion, fire and subsequent sinking in the Gulf of Mexico, resulting in the release of millions of barrels of oil and other discharges into the Gulf. Under the authority of the OPA, designated Federal and state Trustees, acting on behalf of the public, assessed the injuries to natural resources and prepared the Deepwater Horizon Oil Spill Final Programmatic Damage Assessment and Restoration Plan and Final Programmatic Environmental Impact Statement (Final PDARP/PEIS), and the Record of Decision for the Deepwater Horizon Oil Spill Final Programmatic Damage Assessment and Restoration Plan and Final Programmatic Environmental Impact Statement (ROD), which sets forth the governance structure and process for DWH restoration planning under the OPA NRDA regulations. On April 4, 2016, the United States District Court for the Eastern District of Louisiana entered a Consent Decree resolving civil claims by the Trustees against BP.

The Alabama TIG, which is composed of the Alabama Department of Conservation and Natural Resources, the NOAA, Environmental Protection Agency, the U.S. Department of the Interior, the Environmental Protection Agency, and the U.S. Department of Agriculture, selects and implements restoration projects under the Alabama TIG's management authority in accordance with the Consent Decree. The Final PDARP/PEIS, ROD, Consent Decree, and information on the DWH Trustees can be found at https://www.gulfspillrestoration.noaa.gov/restoration-planning/gulf-plan.

Background

In September 2018, the Alabama TIG completed the Deepwater Horizon Oil Spill Alabama Trustee Implementation Group Final Restoration Plan II and Environmental Assessment: Restoration of Wetlands, Coastal, and Nearshore Habitats; Habitat Projects on Federally Managed Lands; Nutrient Reduction (Nonpoint Source); Sea Turtles; Marine Mammals; Birds; and Oysters (RPII/EA). Twenty restoration projects were selected for implementation; one of which was Enhancing Capacity for the Alabama Marine Mammal Stranding Network. That project has been successfully implemented utilizing Marine Mammal Restoration Type funds identified in the DWH Consent Decree.

Overview of the Alabama TIG Supplemental RPII/EA

The Trustees are now proposing to commit additional funds to marine mammal restoration in Alabama. In the Draft Supplemental RPII/EA, the Alabama TIG analyzes a reasonable range of two project alternatives and, pursuant to the NEPA, a No Action Alternative. Those alternatives include:

• Enhancing Capacity for the Alabama Marine Mammal Stranding Network Project Extension (preferred); and

• Reducing Illegal Feeding of Bottlenose Dolphins Project (non-preferred).

Funding to implement either alternative ultimately selected by the Alabama TIG would come from the Marine Mammal Restoration Type Allocation. The total estimated cost to implement the Preferred Alternative is $1,881,237 and would utilize the remaining allocation of Alabama TIG Marine Mammals restoration funds.

Next Steps

After the public comment period ends, the Alabama TIG will consider and address all substantive comments received before making a final decision on which, if any, alternative to fund and implement. A Final Supplemental RPII/EA and Finding of No Significant Impact, as appropriate, identifying the selected alternative will be made publicly available.

Administrative Record

The Administrative Record for the Draft Supplemental RPII/EA can be viewed electronically at https://www.doi.gov/deepwaterhorizon/adminrecord under the folder 6.5.3.2.

Authority

The authority for this action is the OPA of 1990 (33 U.S.C. 2701 et seq.), its implementing NRDA regulations found at 15 CFR part 990, and the NEPA of 1969 (42 U.S.C. 4321 et seq.), its implementing regulations found at 40 CFR parts 1500-1508.

Dated: March 12, 2024.
Carrie Diane Robinson,
Director, Office of Habitat Conservation, National Marine Fisheries Service.

[FR Doc. 2024-05768 Filed 3-18-24; 8:45 am]

BILLING CODE 3510-22-P